ENVIRONMENTAL PROTECTION AGENCY

[EPA-HQ-OLEM-2017-0657; FRL-9977-18-OLEM]

RIN 2050-ZA11

Planning for Natural Disaster Debris and Related Guidance

AGENCY: Environmental Protection Agency (EPA).

ACTION: Notice of availability; request for comments.

SUMMARY: The U.S. Environmental Protection Agency (EPA) is making available for public comment three draft documents: Planning for Natural Disaster Debris; Pre-incident All-hazards Waste Management Plan Guidelines: Four-step Waste Management Planning Process; and All-hazards Waste Management Decision Diagram. The Planning for Natural Disaster Debris guidance is intended to assist communities in planning for debris management before a natural disaster occurs (also referred to as “pre-incident debris management planning”). This guidance revises EPA's existing guidance document on planning for natural disaster debris that was published in 2008 under the same name. The other two documents describe, respectively, the pre-incident waste management planning process for all hazards and the waste management decision-making process during an all-hazards incident. Pre-incident planning can significantly aid decision-making during a response and enhance a community's resiliency. Pre-incident planning can also help communities recover faster, spend less money on cleanup and debris/waste management, and use fewer resources to rebuild and recover.

DATES: Comments received by June 26, 2018 will be considered in the development of the final guidance.

ADDRESSES: Submit your comments, identified by Docket ID No. EPA-HQ-OLEM-2017-0657, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Melissa Kaps, Office of Resource Conservation and Recovery (5304P), Environmental Protection Agency, 1200 Pennsylvania Avenue NW, Washington, DC 20460; telephone number: 703-308-6787; email address: kaps.melissa@epa.gov.

SUPPLEMENTARY INFORMATION:

I. General Information

A. Planning for Natural Disaster Debris Guidance

The U.S. Environmental Protection Agency's (EPA's) draft Planning for Natural Disaster Debris Guidance provides planning suggestions and considerations to assist the whole community (i.e., all governmental, private, nonprofit, community, and other stakeholders) in preparing for debris management before a natural disaster occurs. Communities that may benefit from the advice presented in this document include those that are currently without a debris management plan, are in the beginning stages of the debris management planning process, or have existing debris management plans that are not comprehensive or have not been updated with new information. Plans should be updated regularly to keep the information current (e.g., record reductions in existing disposal capacity, include innovative reuse or recycling opportunities), and plans should also be exercised (i.e., activities should be conducted to test or evaluate components of the plan) to ensure that the whole community remains familiar with their roles and responsibilities in the implementation of the disaster debris plan.

Updating the 2008 version of EPA's Planning for Natural Disaster Debris, this guidance adds information drawn from communities' experiences with natural disasters, including hurricanes, earthquakes, tornadoes, volcanoes, floods, wildfires, and winter storms, and provides more planning recommendations, resources, and lessons learned for managing natural disaster debris. Also, this guidance walks through EPA's pre-incident debris management planning process. This process has four steps to help prepare communities for effective debris management: (1) Conduct pre-planning activities; (2) develop a comprehensive pre-incident debris management plan; (3) keep the debris management plan updated; and (4) implement the debris management plan during a natural disaster.

Natural disasters generate large amounts of debris that communities must manage to fully recover from the disaster. Debris management is often one of the biggest costs for a response, and recovery is not complete until all debris has been managed. Pre-incident debris management planning can significantly aid decision-making during a natural disaster by allowing important analyses and considerations to be made in advance, i.e., not during a disaster response. Pre-incident planning can also enhance a community's resiliency by, for example, identifying (and mitigating) potential debris sources in advance. In the event of a disaster, a more resilient community generates less debris to manage and contains fewer hazardous materials that may pose an increased risk to human health and the environment if released. Resilient communities recover faster, spend less money on cleanup and debris management, and use fewer resources to rebuild and recover. Effective planning addresses source reduction and hazard mitigation activities to reduce the amount and toxicity of debris generated by a natural disaster; strategies for reuse and recycling of materials to minimize the environmental and economic impact of debris management activities; and issues and considerations beyond initial debris removal. Such considerations include characterizing and processing (e.g., volume reduction, refrigerant removal) debris for proper management, tracking debris to its final destination, and communicating with the public about debris collection and other management activities. For these reasons, EPA believes it is critical that communities include debris management planning in their overall preparation for natural disasters.

EPA invites comment on this document from the public, especially from persons who are engaged in those aspects of natural disaster debris management planning that are addressed in this draft guidance. EPA is also interested in lessons learned or success stories from communities that may further illustrate the importance of pre-incident debris management planning. EPA is particularly interested in receiving information on communities' experiences with the 2017 hurricanes and wildfires and requests lessons learned from those natural disasters. Finally, EPA is interested in any examples where communities have tracked debris from collection to its final destination. EPA will review any public comments submitted by the deadline and determine whether and how to revise the document, as appropriate, for the intended scope and use of this guidance. A copy of this guidance can be found on EPA's website at https://www.epa.gov/homeland-security-waste/comment-period-open-draft-update-planning-natural-disaster-debris-guidance.

B. Related Documents on All-Hazards Waste Management

EPA's Pre-incident All-hazards Waste Management Plan Guidelines: Four-step Waste Management Planning Process describes the cyclical and ongoing process of waste management planning for all hazards, including natural disasters. It breaks down the planning process into four steps that cover the initiation, creation, maintenance, and implementation of a waste/debris management plan. It contains a suggested pre-incident waste management plan outline that can be used to prepare for all types of homeland security incidents and identifies potential issues, resources, and tips to help with plan development. Its companion document, the All-hazards Waste Management Decision Diagram, describes the waste management decision-making process during homeland security incidents, including natural disasters. It provides information to consider when making decisions during an incident response and identifies areas where pre-incident waste management planning can be useful.

EPA invites comment on these documents from the public, especially from persons who are engaged in those aspects of waste management planning that are addressed in these documents. EPA will review any public comments submitted by the deadline and determine whether and how to revise the documents, as appropriate, for the intended scope and use of these documents. Copies of these documents can be found on EPA's website at https://www.epa.gov/homeland-security-waste/comment-period-open-draft-update-planning-natural-disaster-debris-guidance.

Dated: April 18, 2018.
Barnes Johnson,
Director, Office of Resource Conservation and Recovery.

[FR Doc. 2018-08969 Filed 4-26-18; 8:45 am]

BILLING CODE 6560-50-P